DEPARTMENT OF STATE

[Public Notice 3676]

Culturally Significant Objects Imported for Exhibition Determinations: “Eternal Egypt: Masterworks of Ancient Art From the British Museum”

AGENCY: Department of State.

ACTION: Notice; correction.

SUMMARY: On August 24, 2000, Notice was published on page 52804 of the Federal Register (Volume 65, Number 169) by the Department of State pursuant to Pub. L 89-259 relating to the exhibit “Eternal Egypt: Masterworks of Ancient Art from the British Museum.” The referenced Notice is corrected as follows. In the SUMMARY after “July 7, 2002,” add the following additional venue: “The Fine Arts Museums of San Francisco, CA, California Palace of the Legion of Honor, from on or about August 10, 2002, to on or about November 3, 2002,”

FOR FURTHER INFORMATION CONTACT: For further information, including a list of exhibit objects, contact Jacqueline Caldwell, Attorney-Adviser, Office of the Legal Adviser, U.S. Department of State (telephone: 202/619-6982). The address is U.S. Department of State, SA-44, 301 4th Street, SW., Room 700, Washington, DC 20547-0001.

Dated: May 16, 2001.
Helena Kane Finn,
Acting Assistant Secretary for Educational and Cultural Affairs, Department of State.

[FR Doc. 01-13151 Filed 5-23-01; 8:45 am]

BILLING CODE 4710-08-P